ENVIRONMENTAL PROTECTION AGENCY

[FRL-6981-8]

Gulf of Mexico Program Citizens Advisory Committee Meeting

AGENCY: Environmental Protection Agency ( EPA).

ACTION: Notice of meeting.

SUMMARY: Under the Federal Advisory Act, Public Law 92463, EPA gives notice of a Meeting of the Gulf of Mexico Program (GMP) Citizens Advisory Committee.

DATES: The Meeting will be held on Tuesday, June 12, 2001, from 1 p.m. to 5:30 p.m. and on Wednesday, June 13, 2001, from 8:30 a.m. to 11:45 a.m.

ADDRESSES: The meetings will be held at the Florida Marine Research Institute, 100 8th Avenue, S.E., St. Petersburg, FL, (727) 896-8626 ext. 2010

FOR FURTHER INFORMATION CONTACT: Gloria D. Car, Designated Federal Officer, Gulf of Mexico Program Office, Building 1103, Room 202, Stennis Space Center, MS 39529-6000 at (228) 688-2421.

SUPPLEMENTARY INFORMATION: Proposed agenda is attached.

The meeting is open to the public.

Dated: May 11, 2001.
Gloria D. Car,
Designated Federal Officer.

[FR Doc. 01-12897 Filed 5-22-01; 8:45 am]

BILLING CODE 6560-50-P